DEPARTMENT OF DEFENSE

Defense Acquisition Regulations System

[Docket Number DARS-2024-0017; OMB Control Number 0750-0012]

Information Collection Requirement; Defense Federal Acquisition Regulation Supplement (DFARS) Part 270, Defense Contracting Programs; Pilot Program To Incentivize Contracting With Employee-Owned Businesses

AGENCY: Defense Acquisition Regulations System, Department of Defense (DoD).

ACTION: Notice.

SUMMARY: The Defense Acquisition Regulations System has submitted to OMB for clearance the following proposal for collection of information under the provisions of the Paperwork Reduction Act.

DATES: Consideration will be given to all comments received by October 30, 2024.

ADDRESSES: Written comments and recommendations for the proposed information collection should be sent within 30 days of publication of this notice to https://www.reginfo.gov/public/do/PRAMain. Find this particular information collection by selecting “Currently under 30-day Review—Open for Public Comments” or by using the search function.

You may also submit comments, identified by docket number and title, by the following method: Federal eRulemaking Portal: https://www.regulations.gov. Follow the instructions for submitting comments.

FOR FURTHER INFORMATION CONTACT: Tucker Lucas, 571-372-7574, or whs.mc-alex.esd.mbx.dd-dod-information-collections@mail.mil.

SUPPLEMENTARY INFORMATION:

Title and OMB Number: Defense Federal Acquisition Regulation Supplement (DFARS) Part 270, Defense Contracting Programs; Pilot Program to Incentivize Contracting with Employee-Owned Businesses; OMB Control Number 0750-0012.

Type of Request: New submission.

Affected Public: Businesses or other for-profit and not-for-profit institutions.

Respondent's Obligation: Required to obtain or retain benefits.

Frequency: On Occasion.

Number of Respondents: 16.

Responses per Respondent: 1.

Annual Responses: 16.

Average Burden per Response: 1 hour.

Annual Burden Hours: 16.

Needs and Uses: This information collection is a result of a new DFARS requirement to implement the data collection required by section 874 of the National Defense Authorization Act (NDAA for Fiscal Year (FY) 2022 (Pub. L. 117-81), as amended by section 872 of the NDAA for FY 2024 (Pub. L. 118-31). The DFARS implementation of this requirement includes a new contract clause, which requires contractors to provide data on the following: (1) the number of years the contractor has been wholly-owned by its employee stock ownership plan; (2) the contractor's challenges in attracting and retaining a talented workforce; (3) challenges the contractor experienced due to its corporate ownership structure that hinder its ability to contract with DoD in order to scale its technologies and capabilities; and (4) challenges the contractor experienced due to its corporate ownership structure in obtaining capital necessary to bridge funding gaps, for example, between prototype demonstration and full-scale development. The data will be used to develop and share best practices relating to the pilot program and to provide information to DoD leadership and the congressional defense committees.

DoD Clearance Officer: Mr. Tucker Lucas. Requests for copies of the information collection proposal should be sent to Mr. Lucas at whs.mc-alex.esd.mbx.dd-dod-information-collections@mail.mil.

Jennifer D. Johnson,
Editor/Publisher, Defense Acquisition Regulations System.

[FR Doc. 2024-22389 Filed 9-27-24; 8:45 am]

BILLING CODE 6001-FR-P